SMALL BUSINESS ADMINISTRATION

[Declaration of Disaster #P067]

Territory of U.S. Virgin Islands

As a result of the President's major disaster declaration for Public Assistance on October 7, 2004 the U.S. Small Business Administration is activating its disaster loan program only for private non-profit organizations that provide essential services of a governmental nature. I find that the islands of St. Croix, St. John, and St. Thomas in the Territory of U.S. Virgin Islands constitute a disaster area due to damages caused by Tropical Storm Jeanne occurring on September 14-17, 2004. Applications for loans for physical damage as a result of this disaster may be filed until the close of business on December 6, 2004 at the address listed below or other locally announced locations: U.S. Small Business Administration, Disaster Area 1 Office, 360 Rainbow Blvd., South, 3rd Floor, Niagara Falls, NY 14303.

The interest rates are:

| Percent
For Physical Damage:
Non-Profit Organizations Without Credit Available Elsewhere: | 2.900.
Non-Profit Organizations with Credit Available Elsewhere: | 4.875.

The number assigned to this disaster for physical damage is P06708.

(Catalog of Federal Domestic Assistance Program No. 59008.)

Dated: October 13, 2004.
Cheri L. Cannon,
Acting Associate Administrator for Disaster Assistance.

[FR Doc. 04-23402 Filed 10-18-04; 8:45 am]

BILLING CODE 8025-01-P